DEPARTMENT OF TRANSPORTATION

Federal Aviation Administration

14 CFR Part 39

[Docket No. FAA-2020-1022; Project Identifier AD-2020-01101-T]

RIN 2120-AA64

Airworthiness Directives; The Boeing Company Airplanes

AGENCY: Federal Aviation Administration (FAA), DOT.

ACTION: Supplemental notice of proposed rulemaking (SNPRM).

SUMMARY: The FAA is revising a notice of proposed rulemaking (NPRM) that would have applied to certain The Boeing Company Model 757-200, -200CB, and -300 series airplanes. This action revises the NPRM by including additional airplanes that are also subject to the identified unsafe condition. Since this change would impose an additional burden over that in the NPRM, the FAA is requesting comments on this SNPRM.

DATES: The FAA must receive comments on this SNPRM by January 3, 2022.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this SNPRM, contact Boeing Commercial Airplanes, Attention: Contractual & Data Services (C&DS), 2600 Westminster Blvd., MC 110-SK57, Seal Beach, CA 90740-5600; phone: 562-797-1717; internet: https://www.myboeingfleet.com. You may view this service information at the FAA, Airworthiness Products Section, Operational Safety Branch, 2200 South 216th St., Des Moines, WA. For information on the availability of this material at the FAA, call 206-231-3195. It is also available on the internet at https://www.regulations.gov by searching for and locating Docket No. FAA-2020-1022.

Examining the AD Docket

You may examine the AD docket at https://www.regulations.gov by searching for and locating Docket No. FAA-2020-1022; or in person at Docket Operations between 9 a.m. and 5 p.m., Monday through Friday, except Federal holidays. The AD docket contains this SNPRM, any comments received, and other information. The street address for Docket Operations is listed above.

FOR FURTHER INFORMATION CONTACT: Tony Koung, Aerospace Engineer, Cabin Safety and Environmental Systems Section, FAA, Seattle ACO Branch, 2200 South 216th St., Des Moines, WA 98198; phone and fax: 206-231-3985; email: tony.koung@faa.gov.

SUPPLEMENTARY INFORMATION:

Comments Invited

The FAA invites you to send any written relevant data, views, or arguments about this proposal. Send your comments to an address listed under ADDRESSES. Include “Docket No. FAA-2020-1022; Project Identifier AD-2020-01101-T” at the beginning of your comments. The most helpful comments reference a specific portion of the proposal, explain the reason for any recommended change, and include supporting data. The FAA will consider all comments received by the closing date and may again revise this proposal because of those comments.

Except for Confidential Business Information (CBI) as described in the following paragraph, and other information as described in 14 CFR 11.35, the FAA will post all comments received, without change, to https://www.regulations.gov, including any personal information you provide. The agency will also post a report summarizing each substantive verbal contact received about this proposed AD.

Confidential Business Information

CBI is commercial or financial information that is both customarily and actually treated as private by its owner. Under the Freedom of Information Act (FOIA) (5 U.S.C. 552), CBI is exempt from public disclosure. If your comments responsive to this SNPRM contain commercial or financial information that is customarily treated as private, that you actually treat as private, and that is relevant or responsive to this SNPRM, it is important that you clearly designate the submitted comments as CBI. Please mark each page of your submission containing CBI as “PROPIN.” The FAA will treat such marked submissions as confidential under the FOIA, and they will not be placed in the public docket of this SNPRM. Submissions containing CBI should be sent to Tony Koung, Aerospace Engineer, Cabin Safety and Environmental Systems Section, FAA, Seattle ACO Branch, 2200 South 216th St., Des Moines, WA 98198; phone and fax: 206-231-3985; email: tony.koung@faa.gov. Any commentary that the FAA receives which is not specifically designated as CBI will be placed in the public docket for this rulemaking.

Background

The FAA issued an NPRM to amend 14 CFR part 39 by adding an AD that would apply to The Boeing Company Model 757-200, -200CB, and -300 series airplanes. The NPRM published in the Federal Register on December 30, 2020 (85 FR 86515). The NPRM was prompted by a report indicating that the passenger service units (PSUs) and life vest panels became separated from their attachments during several survivable accident sequences. In the NPRM, the FAA proposed to require installing lanyard assemblies on the PSUs, and, for certain airplanes, on the life vest panels and video panels as applicable.

Comments

The FAA received a comment from one individual who supported the NPRM without change.

The FAA received additional comments from four commenters, including Boeing, ST Engineering Aerospace, American Airlines, and Delta Air Lines. The following presents the comments received on the NPRM and the FAA's response to each comment.

Request To Add Revised Service Information

Boeing asked that Boeing Special Attention Requirements Bulletin 757-25-0315 RB, Revision 2, dated March 17, 2021, be added to the proposed AD (Revision 1, dated May 20, 2020, was referred to for accomplishing the actions in the NPRM). Boeing stated that Revision 2 includes airplanes having variable number NB451 and four other airplanes that have been determined to be non-Boeing passenger converted freighters with passenger/combi capability after conversion.

The FAA agrees with the commenter for the reason provided. Since the FAA issued the NPRM, Boeing issued Boeing Special Attention Requirements Bulletin 757-25-0315 RB, Revision 2, dated March 17, 2021. This revised service information added airplanes to the effectivity and regrouped the airplanes by moving certain airplanes to new Groups 6 and 7. The FAA has revised this proposed AD to refer to Revision 2 of the service information as the required service information and to give credit for airplanes identified in Boeing Special Attention Requirements Bulletin 757-25-0315 RB, Revision 1, dated May 20, 2020, on which the applicable actions have been done.

Request To Revise Discussion Section

Boeing asked that the FAA revise the Discussion section of the NPRM by deleting the statement “In addition, there is no secondary means of retention (lanyards) for the PSU to the airplane structure.” Boeing stated that this is to maintain consistency with similar rulemaking for the PSU lanyards on Model 737 classic airplanes (Model 737-100, -200, -200C, -300, -400, and -500 series airplanes), and added that no similar statement exists in those ADs.

The FAA partially agrees with the commenter's assertions. There is no secondary means of retention (lanyards) for the PSU to the production airplane installation. Statements referring to a secondary means of PSU retention may be confusing because the production airplane installation does not include a secondary means of retention. Although the quoted statement does appear in other rulemaking (specifically, AD 2020-17-04, Amendment 39-21209 (85 FR 52268, August 25, 2020)), that statement is not retained in this SNPRM.

Request To Remove an Exception

Boeing asked that the FAA remove the exception specified in paragraph (h)(2) of the proposed AD (in the NPRM). Boeing stated that Revision 2 of the service information includes airplanes having variable number NB451 and four other airplanes that have been determined to be non-Boeing passenger converted freighters with passenger/combi capability after conversion. Therefore, the exception identified in paragraph (h)(2) of the proposed AD is not necessary.

The FAA agrees with the commenter for the reasons provided. The FAA has removed the exception specified in paragraph (h)(2) of the proposed AD (in the NPRM) accordingly.

Request To Exclude Certain Airplanes From Applicability

VT Mobile Aerospace Engineering (VT MAE) asked that Model 757-200 airplanes modified per VT MAE supplemental type certificates (STCs) ST03952AT and ST04242AT be exempt from compliance with the proposed AD requirements specified in Boeing Special Attention Requirements Bulletin 757-25-0315 RB, Revision 2, dated March 17, 2021. VT MAE stated that the passenger compartment is completely removed, including the PSUs and life vest panel, per drawing 1180120—Payloads Bulk deletions modification, as specified in the STCs.

The FAA agrees with the commenter's request for the reason provided. The FAA has added a new paragraph (h)(2) to this proposed AD to include this exception.

Clarification for PSU Installation

American Airlines (AAL) suggested that the NPRM provide clarification that the installation of the nylon coated cables is the compliance action required, since the PSU retention design and installation procedures determine the PSU drop height. AAL stated that Boeing Special Attention Requirements Bulletin 757-25-0315 RB, Revision 1, dated May 20, 2020, Tables 1 and 4 of paragraph 1.E., Compliance, in the “Action” column specify to “[i]nstall additional nylon coated stainless steel lanyards on each Passenger Service Unit (PSU) panel, such that in the event of a survivable accident, any detached PSU panel does not extend lower than Body Water Line (BWL) 265.7.” AAL added that the cables being installed are not adjustable, the physical installation of the cables does not adjust PSU drop height, and the “Procedures” section does not specify a height check of a dropped PSU. AAL concluded that the PSU drop height is defined by the installation design and is not adjustable. Delta Air Lines Inc. (Delta) asked that a new paragraph (h)(6) be added to the proposed AD to allow operators to deviate from the actions identified in Figure 1 of Boeing Special Attention Requirements Bulletin 757-25-0315 RB. Delta stated that the actions identified in the tables within Paragraph 3. “Compliance” and within Paragraph 5.(B) “Work Instructions—Actions Required for Compliance” include the following: “Install additional nylon coated stainless steel lanyards on each Passenger Service Unit (PSU) panel, such that in the event of a survivable accident, any detached PSU panel does not extend lower than Body Water Line (BWL) 265.7.”

The FAA provides the following clarification. The PSU panel would not fall below BWL 265.7 due to the airplane design, which does not allow it; a PSU panel that detached and fell below BWL 265.7 would cause injury to passengers. Operators can use the top of the floor panel as a reference to this fact. For Model 757 airplanes, the original Boeing design BWL is 208.6 per the airplane flight manual, and the PSU lanyard is pre-assembled. Therefore, the FAA has not changed this proposed AD in this regard.

Request To Link Certain Part Numbers

Delta asked that the FAA add a new paragraph (h)(3) to the proposed AD stating “Passenger Service Units reidentified to P/N 417N3011-5000 series following accomplishment of Boeing Special Attention Requirements Bulletin 757-25-0315 RB, Revision 1, dated May 20, 2020, must also comply with AD 2007-07-02 [Amendment 39-15002 (72 FR 14400, March 28, 2007) (AD 2007-07-02)], except the new 417N3011-5000 series part number will supersede the 1000 dash number reidentification requirement of AD 2007-07-02.” Delta stated that the -5XXX dash number needs further guidance between AD 2007-07-02 and the proposed AD (in the NPRM).

The FAA agrees that there is connection between the -1000 and -5000 series part numbers; however, the FAA does not agree that it is necessary to add a new paragraph (h)(3) to this proposed AD to include this as an exception. The required actions in each AD are clear and must be complied with as required; these ADs do not need to be linked to effectively accomplish the actions. The FAA has not changed this proposed AD in this regard.

Request To Add New Exception for Installing Lanyard Assemblies

Delta asked that the proposed AD be updated to add a new paragraph (h)(4) to the exceptions allowing operators to deviate from Figure 1 of Boeing Special Attention Requirements Bulletin 757-25-0315 RB, Revision 1, dated May 20, 2020, and use Boeing Service Bulletin 737-25-1707, Revision 1, dated May 18, 2018, to install lanyard assemblies to the PSU panel. Delta stated that Model 737 airplanes specified in Boeing Service Bulletin 737-25-1707 share some part numbers in common for post-service bulletin PSUs specified in Boeing Special Attention Requirements Bulletin 757-25-0315 RB.

The FAA does not agree with the commenter's request. Referring to a different service bulletin that applies to a different airplane model could introduce problems in identifying the applicable information. Boeing has a specific service bulletin for each model referred to in an AD, and in some cases, for each minor model. Internal references in the service bulletin might not be appropriate for a different model (e.g., the AMM or SRM reference for Model 757 airplanes might have a different number than that of Model 737 airplanes.) Under the provisions of paragraph (k) of this AD, the FAA will consider requests for approval of a deviation to the referenced service information if sufficient data are submitted to substantiate that the deviation would provide an acceptable level of safety. This proposed AD has not been changed in this regard.

Request To Add Exception for Certain Upgrades

Delta asked that a new paragraph (h)(5) be added to the proposed AD to allow for cosmetic changes made to Model 757 PSUs under the authority of 14 CFR part 121 (Owner/operator) and 14 CFR part 21 (STC) after compliance with AD 2007-07-02. Delta stated that other operators are also likely to have made similar cosmetic upgrades to PSUs in order to match the units to newer interior color schemes and furnishings. Delta added that this is also referenced in the language used in paragraph (l)(2)(ii) of AD 2012-11-09R1, Amendment 39-18221 (80 FR 44259, July 27, 2015).

The FAA does not agree with the commenter's request. The FAA does not need to approve minor cosmetic changes, such as interior color schemes, unless a flammability test is required. But further clarification is necessary regarding what type of cosmetic upgrades and modifications have been done and their affects on AD compliance. Under the provisions of paragraph (k) of this proposed AD, the FAA will consider requests for approval of an alternative method of compliance if sufficient data are submitted to substantiate that the upgrade or modification would provide an acceptable level of safety. This proposed AD has not been changed in this regard.

FAA's Determination

The FAA is proposing this AD after determining the unsafe condition described previously is likely to exist or develop in other products of the same type design. Certain changes described above expand the scope of the NPRM. As a result, it is necessary to reopen the comment period to provide additional opportunity for the public to comment on this SNPRM.

Related Service Information Under 1 CFR Part 51

The FAA reviewed Boeing Special Attention Requirements Bulletin 757-25-0315 RB, Revision 2, dated March 17, 2021. This service information specifies procedures for installing lanyard assemblies on the PSUs, life vest panels, and video panels as applicable. This service information is reasonably available because the interested parties have access to it through their normal course of business or by the means identified in ADDRESSES.

Proposed AD Requirements in This SNPRM

This proposed AD would require accomplishing the actions specified in the service information already described. For information on the procedures and compliance times, see this service information at https://www.regulations.gov by searching for and locating Docket No. FAA-2020-1022.

Costs of Compliance

The FAA estimates that this AD, if adopted as proposed, would affect 367 airplanes of U.S. registry. The FAA estimates the following costs to comply with this proposed AD:

Estimated Costs for Required Actions
Action | Labor cost | Parts cost | Cost per product | Cost on U.S. operators
Install Lanyard Assemblies | Up to 75 work-hours × $85 per hour = Up to $6,375 | Up to $45,750 | Up to $52,125 | Up to $19,129,875.

Authority for This Rulemaking

Title 49 of the United States Code specifies the FAA's authority to issue rules on aviation safety. Subtitle I, section 106, describes the authority of the FAA Administrator. “Subtitle VII: Aviation Programs” describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

The Boeing Company: Docket No. FAA-2020-1022; Project Identifier AD-2020-01101-T.

(a) Comments Due Date

The FAA must receive comments on this airworthiness directive (AD) by January 3, 2022.

(b) Affected ADs

None.

(c) Applicability

This AD applies to The Boeing Company Model 757-200, -200CB, and -300 series airplanes, certificated in any category, as identified in Boeing Special Attention Requirements Bulletin 757-25-0315 RB, Revision 2, dated March 17, 2021.

(d) Subject

Air Transport Association (ATA) of America Code 25, Equipment/furnishings.

(e) Unsafe Condition

This AD was prompted by a report indicating the passenger service units (PSUs) and life vest panels became separated from their attachments during several survivable accident sequences. The FAA is issuing this AD to address the PSUs, life vest panels, and video panels becoming detached and falling into the cabin, which could lead to passenger injuries and impede egress during an evacuation.

(f) Compliance

Comply with this AD within the compliance times specified, unless already done.

(g) Required Actions

Except as specified by paragraph (h) of this AD: At the applicable times specified in the “Compliance” paragraph of Boeing Special Attention Requirements Bulletin 757-25-0315 RB, Revision 2, dated March 17, 2021, do all applicable actions identified in, and in accordance with, the Accomplishment Instructions of Boeing Special Attention Requirements Bulletin 757-25-0315 RB, Revision 2, dated March 17, 2021.

Note 1 to paragraph (g): Guidance for accomplishing the actions required by this AD can be found in Boeing Special Attention Service Bulletin 757-25-0315, Revision 2, dated March 17, 2021, which is referred to in Boeing Special Attention Requirements Bulletin 757-25-0315 RB, Revision 2, dated March 17, 2021.

(h) Exceptions to Service Information Specifications

(1) Where Boeing Special Attention Requirements Bulletin 757-25-0315 RB, Revision 2, dated March 17, 2021, uses the phrase “the Revision 2 date of Requirements Bulletin 757-25-0315 RB,” this AD requires using “the effective date of this AD.”

(2) The lanyard installation specified in paragraph (g) of this AD is not required on Model 757-200 airplanes modified per VT Mobile Aerospace Engineering (VT MAE) supplemental type certificates (STCs) ST03952AT and ST04242AT.

(i) Credit for Previous Actions

For airplanes identified in Boeing Special Attention Requirements Bulletin 757-25-0315 RB, Revision 1, dated May 20, 2020: This paragraph provides credit for the actions specified in paragraph (g) of this AD, if those actions were performed before the effective date of this AD using Boeing Special Attention Requirements Bulletin 757-25-0315 RB, Revision 1, dated May 20, 2020.

(j) Parts Installation Limitation

As of the applicable time specified in paragraph (j)(1) or (2) of this AD, no person may install on any airplane any PSU, life vest panel, or video panel without an updated lanyard assembly installed.

(1) For airplanes that have PSUs, life vest panels, or video panels without the updated lanyard assemblies installed as of the effective date of this AD: After modification of the airplane as required by paragraph (g) of this AD.

(2) For airplanes that do not have PSUs, life vest panels, or video panels without the updated lanyard assemblies installed as of the effective date of this AD: As of the effective date of this AD.

(k) Alternative Methods of Compliance (AMOCs)

(1) The Manager, Seattle ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (l)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by The Boeing Company Organization Designation Authorization (ODA) that has been authorized by the Manager, Seattle ACO Branch, FAA, to make those findings. To be approved, the repair method, modification deviation, or alteration deviation must meet the certification basis of the airplane, and the approval must specifically refer to this AD.

(l) Related Information

(1) For more information about this AD, contact Tony Koung, Aerospace Engineer, Cabin Safety and Environmental Systems Section, FAA, Seattle ACO Branch, 2200 South 216th St., Des Moines, WA 98198; phone and fax: 206-231-3985; email: tony.koung@faa.gov.

(2) For service information identified in this AD, contact Boeing Commercial Airplanes, Attention: Contractual & Data Services (C&DS), 2600 Westminster Blvd., MC 110-SK57, Seal Beach, CA 90740-5600; phone: 562-797-1717; internet: https://www.myboeingfleet.com. You may view this referenced service information at the FAA, Airworthiness Products Section, Operational Safety Branch, 2200 South 216th St., Des Moines, WA. For information on the availability of this material at the FAA, call 206-231-3195.

Issued on October 25, 2021.
Lance T. Gant,
Director, Compliance & Airworthiness Division, Aircraft Certification Service.

[FR Doc. 2021-24269 Filed 11-16-21; 8:45 am]

BILLING CODE 4910-13-P